Proclamation 10355 of March 30, 2022

Transgender Day of Visibility, 2022

By the President of the United States of America

A Proclamation

To everyone celebrating Transgender Day of Visibility, I want you to know that your President sees you. The First Lady, the Vice President, the Second Gentleman, and my entire Administration see you for who you are—made in the image of God and deserving of dignity, respect, and support. On this day and every day, we recognize the resilience, strength, and joy of transgender, nonbinary, and gender nonconforming people. We celebrate the activism and determination that have fueled the fight for transgender equality. We acknowledge the adversity and discrimination that the transgender community continues to face across our Nation and around the world.

Visibility matters, and so many transgender, nonbinary, and gender nonconforming Americans are thriving. Like never before, they are sharing their stories in books and magazines; breaking glass ceilings of representation on television and movie screens; enlisting—once again—to serve proudly and openly in our military; getting elected and making policy at every level of government; and running businesses, curing diseases, and serving our communities in countless other ways.

Despite this progress, transgender Americans continue to face discrimination, harassment, and barriers to opportunity. Transgender women and girls—especially transgender women and girls of color—continue to face epidemic levels of violence, and 2021 marked the deadliest year on record for transgender Americans. Each of these lives lost was precious. Each of them deserved freedom, justice, and joy. We must honor their lives with action by advancing equity and civil rights for all transgender people.

In the past year, hundreds of anti-transgender bills in States were proposed across America, most of them targeting transgender kids. The onslaught has continued this year. These bills are wrong. Efforts to criminalize supportive medical care for transgender kids, to ban transgender children from playing sports, and to outlaw discussing LGBTQI+ people in schools undermine their humanity and corrode our Nation's values. Studies have shown that these political attacks are damaging to the mental health and well-being of transgender youth, putting children and their families at greater risk of bullying and discrimination.

My entire Administration is committed to ensuring that transgender people enjoy the freedom and equality that are promised to everyone in America. That is why I signed an Executive Order Preventing and Combating Discrimination on the Basis of Gender Identity or Sexual Orientation. We are expanding Federal non-discrimination protections; promoting strategies to address violence against the transgender community and advance gender equity and equality; and disseminating new resources to enhance inclusion, opportunity, and safety for transgender people. Additionally, Americans will soon be able to select more inclusive gender markers on their passports. I continue to call on the Congress to swiftly pass the bipartisan Equality Act, which will ensure that LGBTQI+ individuals and families cannot be denied housing, employment, education, credit, and more because of who they are or who they love. We will continue to work to help transgender people around the world live free from discrimination and violence.

On this Transgender Day of Visibility, we honor transgender people who are fighting for freedom, equality, dignity, and respect. We also celebrate the parents, teachers, coaches, doctors, and other allies who affirm the identities of their transgender children and help these young people reach their potential. Transgender people are some of the bravest Americans I know, and our Nation and the world are stronger, more vibrant, and more prosperous because of them. To transgender Americans of all ages, I want you to know that you are so brave. You belong. I have your back.

NOW, THEREFORE, I, JOSEPH R. BIDEN JR., President of the United States of America, by virtue of the authority vested in me by the Constitution and the laws of the United States, do hereby proclaim March 31, 2022, as Transgender Day of Visibility. I call upon all Americans to join us in lifting up the lives and voices of transgender people throughout our Nation and to work toward eliminating discrimination against all transgender, gender nonconforming, and nonbinary people—and all people.

IN WITNESS WHEREOF, I have hereunto set my hand this thirtieth day of March, in the year of our Lord two thousand twenty-two, and of the Independence of the United States of America the two hundred and forty-sixth.

[FR Doc. 2022-07135

Filed 3-31-22; 11:15 am]

Billing code 3395-F2-P